DEPARTMENT OF AGRICULTURE

Submission for OMB Review; Comment Request

December 7, 2011.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Animal Plant and Health Inspection Service

Title: Select Agent Registration.

OMB Control Number: 0579-0213.

Summary of Collection: The Public Health Security and Bioterrorism Preparedness and Response Act of 2002 were signed into law June 12, 2002. This law is designed to prevent, prepare for and respond to bioterrorism and other public health emergencies. The law requires individuals possessing agents or toxins deemed a severe threat to animal or plant health, or to animal or plant products, to be registered with the Secretary of Agriculture unless they have been specifically exempted. The registration process entail the use of a number of separate forms designed to obtain critical information concerning individuals or facilities in possession of certain agents or toxins, as well as the specific characteristics of the agents or toxins—including name, strain, and genetic information.

Need and Use of the Information: The Animal and Plant Health Inspection Service (APHIS) will collect information to determine the biosafety level of an entity as well as the entity's biosecurity situation. The collected information will also be used to ensure that appropriate safeguard, containment, and disposal requirements commensurate with the risk of the agent or toxin are present at the entity, thus preventing access to such agents and toxins for use in domestic or international terrorism. If the information were not collected, APHIS efforts to more aggressively prevent a bioterrorism event in the United States would be compromised.

Description of Respondents: Business or other for profit; State, Local and Tribal Government; Not-for-profit institutions.

Number of Respondents: 1,163.

Frequency of Responses: Recordkeeping; Reporting: On occasion.

Total Burden Hours: 2,290.

Animal and Plant Health Inspection Service

Title: Pale Cyst Nematode; Quarantine and Regulations.

OMB Control Number: 0579-0322.

Summary of Collection: Under the Plant Protection Act (7 U.S.C. 7701-7772), The Secretary of Agriculture is authorized to prohibit or restrict the importation, entry, or movement of plants and plant pests to prevent the introduction of plant pests into the United States or their dissemination within the United States. The Animal and Plant Health Inspection Service (APHIS) amended the “Domestic Quarantine Notices” in 7 CFR part 301, subpart titled “Potato Cyst Nematode” (§ .86 through 301.86.9, referred to as the regulations) by quarantining parts of Bingham and Bonneville Counties, ID, due to the discovery of the Potato Cyst Nematode there and establishing restrictions on the interstate movement of regulated articles from the quarantined area.

Need and Use of the Information: APHIS will collect information using certificates, limited permits and compliance agreements to prevent the spread of PCN and to ensure that regulated articles can be moved safely from the quarantined area without spreading PCN. If APHIS did not collect this information, the spread of PCN in the United States could result in a loss of domestic or foreign markets for U.S. potatoes and other commodities.

Description of Respondents: Farms; Business or other for-profit.

Number of Respondents: 152.

Frequency of Responses: Reporting: On occasion.

Total Burden Hours: 342.

Animal and Plant Health Inspection Service

Title: Importation of Baby Squash and Baby Courgettes from Zambia.

OMB Control Number: 0579-0347.

Summary of Collection: Under the Plant Protection Act (7 U.S.C 7701), the Secretary of Agriculture is authorized to carry out operations or measures to detect, eradicate, suppress, control, prevent, or retard the spread of plant pests new to the United States or not known to be widely distributed throughout the United States. APHIS amended the fruits and vegetables regulations to allow the importation into the continental United States of baby squash and baby courgettes from Zambia. As a condition of entry, both commodities would have to be produced in accordance with a systems approach that would include requirements for pest exclusion at the production site, fruit fly trapping inside and outside the production site, and pest excluding packinghouse procedures. Both commodities would also be required to be accompanied by a phytosanitary certificate with an additional declaration stating that the baby squash and baby courgette have been produced in accordance with the proposed requirements.

Need and Use of the Information: APHIS will collect information using the following: Physanitary Certificate, Records and Monitoring, Labeling on Cartons and Inspection of Greenhouses. Without this information, all shipments would need to be inspected very thoroughly, thereby requesting considerably more time.

Description of Respondents: Business or other for-profits; Federal Government.

Number of Respondents: 2.

Frequency of Responses: Recordkeeping; Reporting: On occasion.

Total Burden Hours: 4.

Animal and Plant Health Inspection Service

Title: Revision of Hawaii and the Territories Fruits.

OMB Control Number: 0579-0346.

Summary of Collection: Under the Plant Protection Act (7 U.S.C. 7701), the Secretary of Agriculture is authorized to prohibit or restrict the importation, entry or movement of plants and plant pests to prevent the introduction of plant pests into the United States or their dissemination within the United States. The Animal and Plant Health Inspection Service (APHIS) has amended the regulations pertaining to the interstate movement of fruits and vegetables to consolidate requirements of general applicability and eliminate redundant requirements, update terms and remove outdated requirements and references, and make various editorial and nonsubstantive changes to the regulations to make them easier to use.

Need and Use of the Information: APHIS will use the following forms and activities to collect information: PPQ 530, PPQ 586, PPQ 519, Labeling for Pest Free Area, and Inspection & Certification. If APHIS did not collect this information or if APHIS collected this information less frequently, the spread of dangerous plant diseases and pests that occur in Hawaii and the territories could cause millions of dollars in damage to U.S. agriculture.

Description of Respondents: Business or other for-profits; State, Local or Tribal Government.

Number of Respondents: 600.

Frequency of Responses: Reporting: On occasion.

Total Burden Hours: 8,646.

Animal and Plant Health Inspection Service

Title: Importation of Longan from Taiwan.

OMB Control Number: 0579-0351.

Summary of Collection: Under the Plant Protection Act (7 U.S.C. 7701), the Secretary of Agriculture is authorized to carry out operations or measures to detect, eradicate, suppress, control, prevent, or retard the spread of plant pests new to the United States or not known to be widely distributed throughout the United States. APHIS amended the fruits and vegetables regulations to allow the importation of commercial shipments of fresh longan with stems from Taiwan into the United States. As a condition of entry, the longan will be subject to cold treatment and special port-of-arrival inspection procedures for certain quarantine pests.

Need and Use of the Information: APHIS will use the following information collection activities to allow the import of commercial shipment of fresh longan with stems from Taiwan into the United States: Phytosanitary Certificate, Inspection by NPPOs in Taiwan and Stamping of Boxes. Failing to collect this information would cripple APHIS ability to ensure that longan from Taiwan are not carrying plant pests.

Description of Respondents: Business or other for-profits; Federal Government.

Number of Respondents: 12,004.

Frequency of Responses: Reporting: On occasion.

Total Burden Hours: 22.

Ruth Brown,
Departmental Information Collection Clearance Officer.

[FR Doc. 2011-31862 Filed 12-12-11; 8:45 am]

BILLING CODE 3410-34-P